DEPARTMENT OF HEALTH AND HUMAN SERVICES

National Institutes of Health

Center for Scientific Review; Amended Notice of Meeting

Notice is hereby given of a change in the meeting of the Child Psychopathology and Developmental Disabilities Study Section, October 17, 2013, 8:00 a.m. to October 18, 2013, 5:00 p.m., The William F. Bolger Center, 9600 Newbridge Drive, Potomac, MD 20854 which was published in the Federal Register on September 23, 2013, 78 FR Pgs. 58324-58325.

The meeting will be held at the National Institutes of Health, 6701 Rockledge Dr., Bethesda, MD 20892. The meeting will start on November 18, 2013 at 8:00 a.m. and will end on November 20, 2013 at 10:00 a.m. The meeting is closed to the public.

Dated: October 24, 2013.
Carolyn A. Baum,
Program Analyst, Office of Federal Advisory Committee Policy.

[FR Doc. 2013-25556 Filed 10-28-13; 8:45 am]

BILLING CODE 4140-01-P